CONSUMER PRODUCT SAFETY COMMISSION

[Docket No. CPSC-2010-0046]

Agency Information Collection Activities; Submission for Office of Management and Budget Review; Comment Request; Consumer Focus Groups

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995.

DATES: Fax written comments on the collection of information by October 18, 2010.

ADDRESSES: To ensure that comments on the information collection are received, OMB recommends that written comments be faxed to the Office of Information and Regulatory Affairs, OMB, Attn: CPSC Desk Officer, FAX: 202-395-6974, or e-mailed to oira_submission@omb.eop.gov. All comments should be identified with the OMB control number 3041-0136 and identified by Docket No. CPSC-2010-0046. In addition, written comments also should be submitted in http://www.regulations.gov under Docket No. CPSC-2010-0046, or by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East West Highway, Bethesda, MD 20814, (301) 504-7671, lglatz@cpsc.gov.

SUPPLEMENTARY INFORMATION: In compliance with 44 U.S.C. 3507, the CPSC has submitted the following proposed collection of information to OMB for review and clearance: Consumer Focus Groups—(OMB Control Number 3041-0136-Extension).

The Commission is authorized, under section 5(a) of the Consumer Product Safety Act (“CPSA”), 15 U.S.C. 2054(a), to collect information, conduct research, and perform studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

To better identify and evaluate the risks of product-related incidents, the Commission staff invites and obtains direct feedback from consumers on issues related to product safety such as recall effectiveness, product use, and perceptions regarding safety issues. Through participation in certain focus groups, consumers answer questions and provide information regarding their actual experiences, opinions and/or perceptions on the use or pattern of use of a specific product or type of product, including recalled products. The information collected from the Consumer Focus Groups will help inform the Commission's evaluation of consumer products and product use by providing insight and information into consumer perceptions and usage patterns. Such information also may assist the Commission's efforts to support voluntary standards activities and help identify areas regarding consumer safety issues that need additional research. In addition, the information will assist with forming new ways of providing user friendly data to consumers through CPSC's Web site and information and education campaigns.

If this information is not collected, the Commission may not have available certain useful information regarding consumer experiences, opinions, and perceptions related to specific product use in its ongoing efforts to improve the safety of consumer products and safety information on behalf of consumers. Currently, the Commission staff relies on its expert judgment about consumer behavior, perceptions, and similar information related to consumer products and product use. Not conducting the information collection activity, therefore, could reduce the quality of assessments currently completed by Commission staff. The information collection activity would likely provide the Commission staff with information that would focus the staff's assessments, or could provide insight into consumer perceptions and usage patterns that could not be anticipated by Commission staff.

In the Federal Register of June 7, 2010 (75 FR 32161), the CPSC published a 60-day notice requesting public comment on the proposed collection of information. No comments were received.

We estimate the burden of this collection of information as follows. We anticipate that, over the three year period of this request, we will conduct 40 focus groups and 20 one-on-one interviews for a variety of projects. The total hours of burden to the respondents are: (4 hours per person × 400 participants) + (30 minutes per person × 20 participants) = 1,610 hours (537 hours budgeted per year for three years). The total annual cost is: 1,610 × $29.40 (U.S. Department of Labor, Employer costs for Employee Compensation, September 2009) = $47,334 ($15,778 budgeted per year for three years).

The estimated annual cost of the information collection requirements to the Federal government is approximately $140,000 per year for three years. Salary and benefits costs for government personnel assigned to this study are estimated at $127,573 based on 9 months of staff time at an average level of GS-14 step 5 (($119,238 ÷ .701) ÷ 12 months) × 21 months), using a 70.1 percent ratio of wages and salary to total compensation from Table 1 of the December 2009 Employer Costs for Employee Compensation, published by the Bureau of Labor Statistics. This sum also includes travel costs expended for meeting with contractors ($40,000, estimated at $1,000 per focus group), and contracts for conducting focus groups and/or one-on-one interviews ($250,000, estimated at $5,000 per focus group and $2,500 per one-on-one interview).

Dated: September 14, 2010.
Todd A. Stevenson,
Secretary, Consumer Product Safety Commission.

[FR Doc. 2010-23280 Filed 9-16-10; 8:45 am]

BILLING CODE 6355-01-P